DEPARTMENT OF TRANSPORTATION

Federal Aviation Administration

14 CFR Part 39

[Docket No. FAA-2004-19896; Directorate Identifier 2004-CE-44-AD; Amendment 39-13913; AD 2004-25-51]

RIN 2120-AA64

Airworthiness Directives; Raytheon Aircraft Company Beech Models 45 (YT-34), A45 (T-34A, B-45), and D45 (T-34B) Airplanes

AGENCY: Federal Aviation Administration (FAA), DOT.

ACTION: Final rule; request for comments.

SUMMARY: The FAA is adopting a new airworthiness directive (AD) for all Raytheon Aircraft Company (Raytheon) Beech Models 45 (YT-34), A45 (T-34A, B-45), and D45 (T-34B) airplanes. This AD requires you to perform an inspection and/or modification program approved specifically for this AD by the FAA Wichita Aircraft Certification Office (ACO). This AD is the result of a total of three accidents on the affected airplanes, including a recent accident where the wing separated from the airplane in flight. We are issuing this AD to detect and correct cracking in the wing structure of the affected airplanes, which could result in the wing separating from the airplane with consequent loss of control of the airplane.

DATES: This AD becomes effective on December 21, 2004, to all affected persons who did not receive emergency AD 2004-25-51, issued December 10, 2004. Emergency AD 2004-25-51 contained the requirements of this amendment and became effective immediately upon receipt.

We must receive any comments on this AD by January 31, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

To view the comments to this AD, go to http://dms.dot.gov. The docket number is FAA-2004-19896.

FOR FURTHER INFORMATION CONTACT: Paul Nguyen, Aerospace Engineer, FAA, Wichita Aircraft Certification Office, 1801 Airport Road, Mid-Continent Airport, Wichita, Kansas 67209; telephone: (316) 946-4125; facsimile: (316) 946-4107; e-mail: paul.nguyen@faa.gov.

SUPPLEMENTARY INFORMATION: What events have caused this AD? On December 7, 2004, the left wing of a Raytheon Beech Model A45 (T-34A), serial number G-13, separated from the airplane in flight. The airplane, operated by Texas Air Aces, crashed near Montgomery, Texas. The wing was found about a quarter mile away from the crash site.

The left wing center section failed 4 inches inboard of the forward wing attach fitting. In addition, FAA investigation revealed further visual evidence of fatigue (found in other wing locations) not previously addressed by AD 2001-13-18 R1, which FAA issued as a result of an accident near Conroe, Texas.

A review of maintenance records shows that the accident airplane was in compliance with AD 2001-13-18 R1.

AD 2001-13-18 R1 requires compliance with Raytheon Service Bulletin SB57-3329 to inspect four locations per wing:

• Location (1)—9 fasteners at Wing Station (W.S.) 34 forward spar;

• Location (2)—the lower rear bathtub fitting;

• Location (3)—1 fastener at W.S. 64 forward spar; and

• Location (4)—2 fasteners at W.S. 66 rear spar.

The FAA approved four alternative methods of compliance (AMOCs) to AD 2001-13-18 R1 based on front spar replacement or modification and inspections of Location (2) and (4) of the rear spar.

On January 27, 2003, FAA issued emergency AD 2004-25-51 to require you to perform an inspection and/or modification program approved specifically for this AD by the FAA Wichita Aircraft Certification Office (ACO).

Why is it important to publish this AD? The FAA found that immediate corrective action was required, that notice and opportunity for prior public comment were impracticable and contrary to the public interest, and that good cause existed to make the AD effective immediately by individual letters issued on December 10, 2004, to all known U.S. operators of Raytheon Beech Models 45 (YT-34), A45 (T-34A, B-45), and D45 (T-34B) airplanes. These conditions still exist, and the AD is published in the Federal Register as an amendment to section 39.13 of the Federal Aviation Regulations (14 CFR 39.13) to make it effective to all persons.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2004-19896; Directorate Identifier 2004-CE-44-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority For This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19896; Directorate Identifier 2004-CE-44-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-25-51 Raytheon Aircraft Company: Amendment 39-13913; Docket No. FAA-2004-19896; Directorate Identifier 2004-CE-44-AD.

When Does This AD Become Effective?

(a) This AD becomes effective on December 21, 2004, to all affected persons who did not receive emergency AD 2004-25-51, issued December 10, 2004. Emergency AD 2004-25-51 contained the requirements of this amendment and became effective immediately upon receipt.

Are Any Other ADs Affected By This Action?

(b) None. For clarification, this AD provides no relief from the requirements of AD 2001-13-18 R1.

What Airplanes Are Affected by This AD?

(c) This AD affects Beech Models 45 (YT-34), A45 (T-34A, B-45), and D45 (T-34B) airplanes, all serial numbers, that are certificated in any category.

What Is the Unsafe Condition Presented in This AD?

(d) This AD is the result of cracks found in a location that was previously inspected and found to comply with AD 2001-13-18 R1; and two new locations. We are issuing this AD to detect and correct such cracking, which could result in the wing separating from the airplane with consequent loss of control of the airplane.

What Must I Do To Address This Problem?

(e) The following specifies actions you must do per this AD and other pertinent information to address this problem:

Actions | Compliance
(1) Perform an inspection and/or modification program approved specifically for this AD by the FAA Wichita Aircraft Certification Office (ACO) | Prior to further flight after December 21, 2004 (the effective date of this AD), except that this action was already required prior to further flight upon receipt for those who received emergency AD 2004-25-51.
(2) To return/position the airplane to a home base, hangar, maintenance facility, etc., you may operate the airplane provided you follow the limitations in paragraph (f) of this AD | You may operate the airplane up to 10 hours time-in-service (TIS) provided the flight(s) occur(s) no later than 30 days after December 21, 2004, except that this provision was already given to those who received emergency AD 2004-25-51. This is a one-time provision.
(3) Special flight permits are allowed for this AD. See paragraph (f) of this AD for restrictions | Use the procedures in 14 CFR part 39 and the restrictions in paragraph (f) of this AD.
(4) To help in the long-term airworthiness solution for the safety and continued airworthiness of these airplanes, FAA is requesting data from every owner/operator on the following on these airplanes: (i) Service/Repair History (cracked/fatigued structure); (ii) Maintenance Schedule; and (iii) Total Hours Time-In-Service (TIS). | Send to Paul Nguyen, Aerospace Engineer, FAA, Wichita Aircraft Certification Office, 1801 Airport Road, Mid-Continent Airport, Wichita, Kansas 67209; telephone: (316) 946-4125; facsimile: (316) 946-4107; e-mail: paul.nguyen@faa.gov.

What Are the Flight Restrictions Specified in Paragraph (e)(2) and (e)(3) of This AD?

(f) During the time allowed before compliance with paragraph (e)(1) of this AD or for any approved special flight permit, you must adhere to the following limitations:

(1) NEVER EXCEED SPEED, VNE-175 MPH (152 knots).

(2) NORMAL ACCELERATION (G) LIMITS −0, and +2.5.

(3) ACROBATIC MANEUVERS PROHIBITED.

(4) FLIGHT INTO KNOWN OR FORECAST MODERATE OR SEVERE TURBULENCE IS PROHIBITED.

(5) DAY VISUAL FLIGHT RULES (VFR) OPERATION ONLY.

(6) PILOT AND ANY ADDITIONAL FLIGHT CREW MEMBER REQUIRED FOR SAFE OPERATION.

Who Do I Contact for Further Information?

(g) If you need additional information relating to this AD, contact: Paul Nguyen, Aerospace Engineer, FAA, Wichita Aircraft Certification Office, 1801 Airport Road, Mid-Continent Airport, Wichita, Kansas 67209; telephone: (316) 946-4125; facsimile: (316) 946-4107; e-mail: paul.nguyen@faa.gov.

Issued in Kansas City, Missouri, on December 14, 2004.
James E. Jackson,
Acting Manager, Small Airplane Directorate, Aircraft Certification Service.

[FR Doc. 04-27708 Filed 12-17-04; 8:45 am]

BILLING CODE 4910-13-P